DEPARTMENT OF JUSTICE

Antitrust Division

Notice Pursuant to the National Cooperative Research and Production Act of 1993—MLCommons Association

Notice is hereby given that, on October 30, 2025, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Terrafloww Labs, Inc., Bengaluru, REPUBLIC OF INDIA; My Pebble Inc., Boston, MA; NEWFW Technology Pte, Ltd, Singapore, REPUBLIC OF SINGAPORE; Balnc Care Pvt Ltd, Kerala, REPUBLIC OF INDIA; Amazon.com Services LLC, Seattle, WA; Karunakar Elagandala (individual member), Hyderabad, REPUBLIC OF INDIA; Ieshika Chandra (individual member), Newark, CA; Arnold Ukagwu (individual member), Lansing, IL; Ouri Wolfson (individual member), Chicago, IL; Zhibin Xiao (individual member), Santa Clara, CA; James Garrick (individual member), Collierville, TN; Abi Prasanth (individual member), The Nilgiris, REPUBLIC OF INDIA; Aditya Manglik (individual member), Zurich, SWISS CONFEDERATION; Taanish Bhardwaj (individual member), Singapore, REPUBLIC OF SINGAPORE; Shane Branch (individual member), Campbell, CA; Nikunj Koolar (individual member), Newark, CA; Balkrishna Yadav (individual member), Chino Hills, CA; Rameez Raja (individual member), Luton, UNITED KINGDOM; Ethan Prevuznak (individual member), Mount Pleasant, SC; Dhivya Nagasubramanian (individual member), Plymouth, MN; and Ilkin Aliyev (individual member), San Jose, CA, have been added as parties to this venture.

Also, Alibaba (China) Co., Ltd., Zhejiang Province, PEOPLE'S REPUBLIC OF CHINA; Nettrix Information Industry Co., Ltd., Beijing, PEOPLE'S REPUBLIC OF CHINA; SambaNova Systems, Palo Alto, CA; Tenstorrent Inc, Small, Toronto, CANADA; Sapeon, Inc., Santa Clara, CA; Ailiverse Pte. Ltd, V, Singapore, REPUBLIC OF SINGAPORE; Connect Tech Inc., Ontario, CANADA; Trainy Inc., Fremont, CA; Juniper Networks, Sunnyvale, CA; Task Aware AI, Mountain View, CA; GPTshop.ai UG (Limited), Ebern, FEDERAL REPUBLIC OF GERMANY; Decompute, Saratoga, CA; and FlexAI, SAS, Paris, FRENCH REPUBLIC, have withdrawn as parties to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on August 5, 2025. A notice was published in the Federal Register pursuant to section 6(b) of the Act on August 18, 2025 (90 FR 40083).

Suzanne Morris,
Deputy Director Civil Enforcement Operations, Antitrust Division.

[FR Doc. 2025-24169 Filed 12-31-25; 8:45 am]

BILLING CODE 4410-11-P